NUCLEAR REGULATORY COMMISSION

[Docket No. 52-038; NRC-2008-0581]

Nine Mile Point 3 Nuclear Project, LLC and Unistar Nuclear Operating Services, LLC; Nine Mile Point 3 Nuclear Power Plant Combined License Application; Notice of Cancellation of Environmental Scoping Process and Public Scoping Meeting

Nine Mile Point 3 Nuclear Project, LLC and Unistar Nuclear Operating Services, LLC have submitted an application for a combined license (COL) to build Nine Mile Point Unit 3 (NMP3), located on approximately 921 acres in Oswego County, New York on Lake Ontario, approximately five miles north-northeast of Oswego, New York. Nine Mile Point 3 Nuclear Project, LLC and Unistar Nuclear Operating Services, LLC submitted the application for the COL to the U.S. Nuclear Regulatory Commission (NRC) on September 30, 2008, pursuant to Title 10 of the Code of Federal Regulations (10 CFR) Part 52.

A notice of intent to prepare an environmental impact statement and conduct scoping process was published in the Federal Register on January 30, 2009 (74 FR 5688-5689). On February 9, 2009, Unistar submitted a letter to the NRC requesting that the NRC consider Unistar's interest in maintaining some schedule spacing between the NRC's review of the Calvert Cliffs Unit 3 and NMP3 COL applications. Specifically, Unistar requested that portions of the NMP3 COL review be sequenced to occur in September 2009.

In considering Unistar's request, the NRC believes that a shift in the NMP3 environmental scoping period will preserve the NRC's overall environmental review process and sequencing of activities. Therefore, the NRC has chosen to cancel the current environmental scoping process and the associated February 25, 2009 scoping meetings for this application. Both activities will be rescheduled to start in mid-2009. The purpose of this notice is to inform the public that the NRC has cancelled the current scoping process and the associated scoping meetings for this application.

Questions about this cancellation should be directed to Mr. Paul Michalak at 301-415-7612 or via e-mail at Paul.Michalak@nrc.gov.

Dated at Rockville, Maryland, this 11th day of February 2009.
For the Nuclear Regulatory Commission.
Andrew C. Campbell,
Acting Division Director, Division of Site and Environmental Reviews, Office of New Reactors.

[FR Doc. E9-3394 Filed 2-13-09; 8:45 am]

BILLING CODE 7590-01-P